BUREAU OF CONSUMER FINANCIAL PROTECTION

Agency Information Collection Activities: Notice of Office of Management and Budget Approval of Information Collection Requirements

AGENCY: Bureau of Consumer Financial Protection.

ACTION: Notice of approval of information collection requirements.

SUMMARY: In accordance with the Paperwork Reduction Act of 1995 (PRA), the Consumer Financial Protection Bureau (Bureau) is announcing Office of Management and Budget (OMB) approval of new and revised information collection requirements contained in a final rule published in the Federal Register on November 22, 2016, as amended on April 25, 2017 and February 13, 2018, regarding prepaid accounts under Regulations E and Z. See the SUPPLEMENTARY INFORMATION section below for additional information about each OMB approval.

FOR FURTHER INFORMATION CONTACT: Documentation prepared in support of these information collection requests is available at www.reginfo.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION: Under the PRA (44 U.S.C. 3501 et seq.) the Bureau may not conduct or sponsor, and, notwithstanding any other provision of law, a respondent is not required to respond to, an information collection unless it displays a currently valid OMB control number. On October 5, 2016, the Bureau issued a final rule titled “Prepaid Accounts Under the Electronic Fund Transfer Act (Regulation E) and the Truth In Lending Act (Regulation Z)” (2016 Final Rule).¹ The Bureau subsequently amended the 2016 Final Rule twice, in 2017 and 2018.² The 2016 Final Rule, as subsequently amended, is referred to herein as the Prepaid Accounts Rule. Pursuant to 5 CFR 1320.11(h), the Bureau submitted the 2016 Final Rule with information collection requests (ICRs) to OMB on the date the 2016 Final Rule was published in the Federal Register.³ The Bureau hereby announces OMB approval of the information collection requirements contained in the Prepaid Accounts Rule and the respective OMB control numbers currently assigned to each of the information collection requirements.

¹ 81 FR 83934 (Nov. 22, 2016).

² See 82 FR 18975 (Apr. 25, 2017) and 83 FR 6364 (Feb. 13, 2018). These amendments, among other things, extended the effective date of the Prepaid Accounts Rule to April 1, 2019.

³ On March 6, 2019, the Bureau published a notification in the Federal Register titled “Technical Specifications for Submissions to the Prepaid Account Agreements Database.” 84 FR 7979 (Mar. 6, 2019) (Technical Specifications). The Technical Specifications relate to a provision in 12 CFR 1005.19, added to Regulation E by the Prepaid Accounts Rule, which requires a prepaid account issuer to make submissions of its currently-offered prepaid account agreements on a rolling basis, in the form and manner specified by the Bureau. While the Technical Specifications do not introduce any new or revised collections of information beyond what is already contemplated by the Prepaid Accounts Rule, for purposes of the PRA, OMB considers them as instructions for an information collection and, as such, have been included in OMB's docket for OMB number 3170-0014.

⁴ The Bureau divided certain proposals to amend the Bureau's Regulation Z into separate ICRs in the OMB system (accessible at www.reginfo.gov) to ease the public's ability to view and understand the individual proposals. The Bureau anticipates that it will combine OMB Number 3170-0050 into the existing control number for Regulation Z (OMB Number 3170-0015). Bureau respondents should continue to use the 3170-0015 control number for Regulation Z.

Title of collection | OMB control number | Date approved by OMB
Electronic Fund Transfer Act (Regulation E) 12 CFR 1005 | 3170-0014 | 3/22/2019
Truth in Lending Act (Regulation Z) 12 CFR 1026 Pre-Paid Card Regulation ⁴ | 3170-0050 | 3/22/2019

Dated: March 26, 2019.
Darrin A. King,
Paperwork Reduction Act Officer, Bureau of Consumer Financial Protection.

[FR Doc. 2019-06172 Filed 3-29-19; 8:45 am]

BILLING CODE 4810-AM-P